DEPARTMENT OF THE INTERIOR

Fish and Wildlife Service

[FWS-R2-ES-2008-N0024]; [20124-1113-0000-F2]

Williamson County Regional Habitat Conservation Plan

AGENCY: Fish and Wildlife Service, Interior.

ACTION: Notice of availability: draft environmental impact statement, draft habitat conservation plan, and permit application; announcement of a public hearing.

SUMMARY: Williamson County, Texas (Applicant), has applied to the U.S. Fish and Wildlife Service (Service) for an incidental take permit (TE-181840-0) under section 10(a)(1)(B) of the Endangered Species Act (Act) of 1973, as amended. The requested permit, which would be in effect for a period of 30 years, if granted, would authorize incidental take of the following federally listed species: Golden-cheeked warbler (Dendroica chrysoparia), black-capped vireo (Vireo atricapilla), Bone Cave harvestman (Texella reyesi), and Coffin Cave mold beetle (Batrisodes texanus). The proposed take would occur in Williamson County, Texas, as a result of activities including, but not limited to, road construction, maintenance, and improvement projects; utility construction and maintenance; school development and construction; public or private construction and development; and land clearing. Such actions cause effects to upland (bird) and underground (karst) habitats. Williamson County has completed a draft Habitat Conservation Plan (dHCP) as part of the application package. We have issued a draft environmental impact statement (dEIS) that evaluates the impacts of, and alternatives to, possible issuance of an incidental take permit (ITP).

DATES: To ensure consideration, we must receive written comments on or before close of business (4:30 p.m. CST) July 15, 2008. We will also accept oral and written comments at a public hearing to be held on June 16, 2008, 5 p.m.to 8 p.m., Williamson County Courthouse, Commissioners Court—2nd Floor West, 710 Austin Avenue, Georgetown, Texas 78626.

ADDRESSES: You may obtain copies of the dEIS and dHCP by going to the Williamson County Conservation Foundation Web site at http://wilcogov.org/wccf/report.htm. Alternatively, you may obtain compact disks with electronic copies of these documents by writing to Mr. Adam Zerrenner, Field Supervisor, U.S. Fish and Wildlife Service, 10711 Burnet Road, Suite 200, Austin, TX 78758; calling (512) 490-0057; or faxing (512) 490-0974. A limited number of printed copies of the dEIS and dHCP are also available, by request, from Mr. Zerrenner. Copies of the dEIS and dHCP are also available for public inspection and review at the following locations (by appointment only at government offices):

—Department of the Interior, Natural Resources Library, 1849 C. St., NW., Washington, DC 20240.

—U.S. Fish and Wildlife Service, 500 Gold Avenue, SW., Room 4012, Albuquerque, NM 87102.

—U.S. Fish and Wildlife Service, 10711 Burnet Road, Suite 200, Austin, TX 78758.

Persons wishing to review the application may obtain a copy by writing to the Regional Director, U.S. Fish and Wildlife Service, P.O. Box 1306, Room 4012, Albuquerque, NM 87103.

FOR FURTHER INFORMATION CONTACT: Mr. Adam Zerrenner, Field Supervisor, U.S. Fish and Wildlife Service, 10711 Burnet Road, Suite 200, Austin, TX 78758 or (512) 490-0057.

SUPPLEMENTARY INFORMATION: Written comments may be submitted to Mr. Adam Zerrenner (see above). We will also accept written and oral comments at a public hearing (see DATES).

Public Availability of Comments

Written comments we receive become part of the public record associated with this action. Before including your address, phone number, e-mail address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Under the National Environmental Policy Act (NEPA), this notice advises the public that we have gathered the information necessary to determine impacts and formulate alternatives for the EIS related to the potential issuance of an ITP to Williamson County; and that the Applicant has developed an HCP which describes the measures the applicant has agreed to undertake to minimize and mitigate the effects of incidental take of federally listed species to the maximum extent practicable, pursuant to section 10(a)(1)(B) of the Act.

Background

Our initial notice of intent to prepare an EIS and hold public scoping meetings published in the Federal Register on June 1, 2007 (64 FR 30604). A summary of comments provided during the 2007 scoping periods, which included a public meeting held June 14, 2007, in Georgetown, Texas, is available on the Williamson County Conservation Foundation Web site at http://wilcogov.org/wccf/report.htm.

The Williamson County Regional Habitat Conservation Plan (WCRHCP) and the conservation program described in the plan were developed in a process involving participants and stakeholders from potentially affected or interested groups in Williamson County. The groups are organized into a Citizens Advisory Committee and a Biological Advisory Team that have overseen the development of the WCRHCP. The Williamson County Conservation Foundation Web site contains information on meetings, documents, and the status of the process.

Proposed Action

The proposed action involves the issuance of an ITP by the Service for covered activities in Williamson County, pursuant to section 10(a)(1)(B) of the Act. The activities that would be covered by the ITP are road construction, maintenance, and improvement projects; utility construction and maintenance; school development and construction; public or private construction and development; and land clearing. The ITP will cover Williamson County, Texas, within the range of the covered species.

The requested term of the permit is 30 years. To meet the requirements of a section 10(a)(1)(B) ITP, the Applicant has developed and will implement the WCRHCP, which describes the conservation measures the Applicant has agreed to undertake to minimize and mitigate for incidental take of golden-cheeked warbler, black-capped vireo, Bone Cave harvestman, and Coffin Cave mold beetle to the maximum extent practicable, and ensures that incidental take will not appreciably reduce the likelihood of the survival and recovery of these species in the wild.

Alternatives: Two alternatives to the proposed action we are considering as part of this process are:

1. No Action—No ITP would be issued. This alternative would require individuals to seek authorization through section 7 or section 10(a)(1)(B) to address incidental take resulting from their actions in Williamson County or avoid taking actions that would result in incidental take.

2. Modified (Reduced Take and Mitigation) WCRHCP—This alternative would only cover take of the golden-cheeked warbler and Bone Cave harvestman. The amount of authorized take and mitigation would be reduced for both species.

Section 9 of the Act and its implementing regulations prohibit the “taking” of threatened and endangered species. However, under limited circumstances, we may issue permits to take listed wildlife species incidental to, and not the purpose of, otherwise lawful activities.

We provide this notice under section 10(c) of the Act (16 U.S.C. 1531 et seq.) and its implementing regulations (50 CFR 17.22) and NEPA (42 U.S.C. 4371 et seq.) and its implementing regulations (40 CFR 1506.6). In addition, Chapter 83 of the Texas Parks and Wildlife Code places State-law requirements on the development of regional HCPs. In accordance with Chapter 83.015(f) of the Code, after notice and hearing, a regional HCP, including any mitigation fee, and the size of the habitat preserves may be based on any recovery criteria applicable to each endangered species to be covered by the regional HCP.

Christopher T. Jones,
Regional Director, Southwest Region, Albuquerque, New Mexico.

[FR Doc. E8-10942 Filed 5-15-08; 8:45 am]

BILLING CODE 4310-55-P